DEPARTMENT OF COMMERCE

Patent and Trademark Office

[Docket No. PTO-P-2013-0054]

Notice of Roundtable on the Renewal of a Continuing Information Collection

AGENCY: United States Patent and Trademark Office, Commerce.

ACTION: Notice of public meeting.

SUMMARY: In accordance with the Paperwork Reduction Act (PRA), the United States Patent and Trademark Office (USPTO) published a notice inviting written public comment on the renewal of information collection 0651-0032, Initial Patent Applications. The USPTO plans to conduct a roundtable to obtain additional public input regarding the burden associated with the Initial Patent Applications collection and ways to potentially reduce it. By providing this additional opportunity for public input, the USPTO hopes to increase the level of stakeholder participation in this information collection renewal. The roundtable will be open for any member of the public to provide input.

DATES: Roundtable: The roundtable will be held on Wednesday, December 11, 2013, beginning at 10:00 a.m. Eastern Daylight Time (EDT), and ending at 12:00 p.m. EDT.

Registration: Registration for the roundtable is requested by December 4, 2013.

ADDRESSES: Roundtable: The roundtable will be held at the USPTO in the first floor conference room (1D70/1D80) of the Jefferson Building, which is located at 500 Dulany Street, Alexandria, Virginia 22314.

Registration: Registration is required, and early registration is recommended because seating is limited. There is no fee to register for the roundtable, and registration will be on a first-come, first-served basis. Registration on the day of the roundtable will be permitted on a space-available basis beginning 30 minutes before the roundtable.

To register, please send an email message to PRARoundtable2013@uspto.gov and provide the following information: (1) Your name, title, and if applicable, company or organization, address, phone number, and email address; and (2) if you wish to make an oral presentation at the roundtable, the specific topic or issue to be addressed and the approximate desired length of your presentation. Each attendee, even if from the same organization, must register separately.

The USPTO will attempt to accommodate all persons who wish to make a presentation at the roundtable. After reviewing the list of speakers, the USPTO will contact each speaker prior to the roundtable with the amount of time available and the approximate time that the speaker's presentation is scheduled to begin. Speakers must then send the final electronic copies of their presentations in Microsoft PowerPoint or Microsoft Word to PRARoundtable2013@uspto.gov by December 4, 2013, so that the presentation can be displayed at the roundtable. If time permits, the USPTO will provide an opportunity at the roundtable for anyone who wishes to speak without a formal presentation.

The USPTO plans to make the roundtable available via Web cast. Web cast information will be available on the USPTO's Internet Web site before the roundtable. A list of registered roundtable participants and their associations will be available on the USPTO's Internet Web site at http://www.uspto.gov/patents/init_events/index.jsp.

If you need special accommodations due to a disability, please inform the contact person identified below.

FOR FURTHER INFORMATION CONTACT: Requests for additional information should be directed to the attention of Raul Tamayo, Senior Legal Advisor, Office of Patent Legal Administration, United States Patent and Trademark Office, P.O. Box 1450, Alexandria, VA 22313-1450; by telephone at 571-272-7728; or by email to raul.tamayo@uspto.gov. Additional information about information collection 0651-0032 Initial Patent Applications is also available at http://www.reginfo.gov under “Information Collection Review.”

SUPPLEMENTARY INFORMATION: Before requiring or requesting information from the public, the PRA requires Federal agencies to (1) seek public comment on the proposed collection of information, and (2) submit a request to collect the information to the Office of Management and Budget (OMB) for review and approval. This provision of the PRA is designed to minimize and control burdens, while maximizing the practical utility and public benefit of the information collected. OMB approval of a collection of information is generally effective for three years from the approval date. Therefore, agencies seek renewal of their approval from OMB to collect the information prior to the expiration of the three-year term.

Information collection 0651-0032, Initial Patent Applications, covers the information collected by the USPTO in connection with the requirements related to the initial filing of a patent application. For example, items of information covered by the 0651-0032 collection include new utility, design, and plant patent applications, continuations and divisionals thereof, and papers filed in connection therewith, such as application data sheets. A complete identification of the items covered by the 0651-0032 collection is available at http://www.reginfo.gov under “Information Collection Review.”

As part of the process of renewing the 0651-0032 collection, the USPTO published a notice on October 1, 2013, inviting the public to provide written comment on the renewal. See Initial Patent Applications, 78 FR 60256 (October 1, 2013) (hereinafter “the October 1 notice”). The October 1 notice provides USPTO's estimates of the burdens associated with providing the information covered by the collection. For example, the October 1 notice includes an estimate of the number of new utility applications the USPTO expects to receive per year over the term of the renewal (approximately 273,000, excluding continuing applications and 35 U.S.C. 371 national stage entry applications) and an estimate of the time it takes to gather the necessary information, prepare the utility application, and submit the completed application to the USPTO (33 hours and 12 minutes). The October 1 notice requests feedback from the public on all of the estimates provided by the USPTO in the 0651-0032 information collection request. The deadline for receipt of written comments in response to the October 1 notice is being extended to December 16, 2013.

As stated in the October 1 notice, when OMB last approved the 0651-0032 collection on January 8, 2011, it included terms of clearance in the Notice of Action it issued announcing the approval. The terms of clearance stated that the USPTO should conduct outreach to stakeholders regarding the burden of the 0651-0032 collection and ways to potentially reduce it before the next renewal of the collection. The goal of the roundtable is to provide this outreach to stakeholders and listen to their feedback on the burdens associated with the 0651-0032 collection. In particular, the USPTO hopes to receive feedback that will allow it to: (a) Evaluate whether the items of information in the 0651-0032 collection are necessary for the proper performance of the functions of the agency, including whether the items of information have practical utility; (b) evaluate the accuracy of the USPTO's estimate of the burden of the 0651-0032 collection, including the validity of the methodology and assumptions used; (c) enhance the quality, utility, and clarity of the information being collected; and (d) minimize the burden of the collection of information on those who are to respond, including through the use of appropriate automated, electronic, mechanical, or other technological collection techniques or other forms of information technology, e.g., permitting electronic submission of responses.

Prior to the roundtable, the USPTO will post additional information regarding its estimates of the burdens associated with the 0651-0032 collection on its Internet Web site at http://www.uspto.gov/patents/init_events/index.jsp. For example, prior to the roundtable, the USPTO will make available on its Web site a draft of the supporting statement associated with the renewal request for the collection. The supporting statement will contain a more detailed analysis of the USPTO's burden estimates for the 0651-0032 collection. The public is invited to review both the information provided in the October 1 notice and the information that will be provided at http://www.uspto.gov/patents/init_events/index.jsp prior to attending the roundtable, in order to better inform the discussion at the roundtable. In addition, the public is encouraged to submit written comments to the USPTO on or before December 16, 2013, the extended comment deadline for the October 1 notice.

Dated: November 5, 2013.
Teresa Stanek Rea,
Deputy Under Secretary of Commerce for Intellectual Property and Deputy Director of the United States Patent and Trademark Office.

[FR Doc. 2013-27101 Filed 11-12-13; 8:45 am]

BILLING CODE 3510-16-P